DEPARTMENT OF THE INTERIOR

Fish and Wildlife Service

50 CFR Parts 32 and 36

[Docket No. FWS-R7-NWRS-2014-0005; FF07R05000 145 FXRS12610700000]

RIN 1018-BA31

Non-Subsistence Take of Wildlife, and Public Participation and Closure Procedures, on National Wildlife Refuges in Alaska

AGENCY: Fish and Wildlife Service, Interior.

ACTION: Proposed rule.

SUMMARY: We, the U.S. Fish and Wildlife Service (USFWS), propose to amend our regulations for National Wildlife Refuges (refuges) in Alaska. This proposed rule clarifies how our existing mandates for the conservation of natural and biological diversity, biological integrity, and environmental health on refuges in Alaska relate to predator control; prohibits several particularly effective methods and means for take of predators; and updates our public participation and closure procedures. This proposed rule would not change Federal subsistence regulations or restrict the taking of fish or wildlife for subsistence uses under Federal subsistence regulations.

DATES: We must receive your comments on or before March 8, 2016.

ADDRESSES: You may submit comments by any one of the following methods:

(1) Electronically: Go to the Federal eRulemaking Portal: http://www.regulations.gov. In the Search box, enter FWS-R7-NWRS-2014-0005, which is the docket number for this rulemaking. Then click on the Search button. On the resulting page, you may submit a comment by clicking on “Comment Now!”

(2) By hard copy: Submit by U.S. mail or hand-delivery to: Public Comments Processing, Attn: FWS-R7-NWRS-2014-0005; Division of Policy, Performance, and Management Programs; U.S. Fish and Wildlife Service, MS: BPHC; 5275 Leesburg Pike, Falls Church, VA 22041-3803.

(3) In person: We will hold nine open houses and public hearings at which comments may be submitted. See the related document published elsewhere in today's Federal Register with information about the dates, times, and locations of those open houses and hearings and the various ways in which oral and written comments will be accepted.

We will post all comments on http://www.regulations.gov. This generally means that we will post any personal information you provide us. For additional information, see the Public Participation and Public Availability of Comments sections, below.

FOR FURTHER INFORMATION CONTACT: Stephanie Brady, Chief of Conservation Planning and Policy, National Wildlife Refuge System, Alaska Regional Office, 1011 E. Tudor Rd., Mail Stop 211, Anchorage, AK 99503; telephone (907) 306-7448.

SUPPLEMENTARY INFORMATION:

Background

The U.S. Fish and Wildlife Service (USFWS) has various mandates it must adhere to in managing the National Wildlife Refuge System (NWRS). There are three statutes in particular that provide direction and authority specific to the Alaska NWRS: The 1980 Alaska National Interest Lands Conservation Act (ANILCA; 16 U.S.C. 3111-3126); the 1997 National Wildlife Refuge System Improvement Act (Improvement Act; 16 U.S.C. 668dd-668ee, which amended the National Wildlife Administration Act of 1966 (Administration Act)); and the 1964 Wilderness Act (16 U.S.C. 1131-1136).

The Improvement Act provides that ANILCA takes precedence if there is a conflict between the two, and thus ANILCA provides the primary direction for management specific to refuges in Alaska. ANILCA added approximately 54 million acres of land to the NWRS in Alaska, managed by USFWS; established nine new refuges; and established or redesignated seven other already established refuges. ANILCA also designated 18.7 million acres in 13 wilderness areas on refuges in Alaska as units of the National Wilderness Preservation System.

Under ANILCA, each refuge in Alaska has a nonexclusive list of purposes for which it was established, including to “conserve fish and wildlife populations and habitats in their natural diversity” followed by a list of representative species particular to each refuge. Under ANILCA, all other refuge establishment purposes for Alaska refuges (except international treaty obligations) must be managed consistently with the first purpose for the conservation of natural diversity. While “natural diversity” is not defined in ANILCA, its legislative history provides guidance. The Senate Report on H.R. 39 states that refuges represent “the opportunity to manage these areas on a planned ecosystem-wide basis with all of their pristine ecological processes intact” (S. Rep. No. 96-413 at 174 (1979), reprinted in 1980 U.S.C.C.A.N. 5118). Nine days after ANILCA was signed into law on December 2, 1980, Congressman Udall, during a speech on the floor of the House of Representatives described the source of the term “natural diversity.” He stated that the conservation of natural diversity refers not only to “protecting and managing all fish and wildlife populations within a particular wildlife refuge system unit in the natural `mix,' not to emphasize management activities favoring one species to the detriment of another” (126 Cong. Rec. H12, 352-53 (daily ed. Dec. 11, 1980) (statement of Rep. Udall)). During this floor speech, Congressman Udall also stated that in managing for natural diversity it was the intent of Congress, “to direct the U.S. Fish and Wildlife Service to the best of its ability, . . . to manage wildlife refuges to assure that habitat diversity is maintained through natural means, avoiding artificial developments and habitat manipulation programs . . . ; to assure that wildlife refuge management fully considers the fact that humans reside permanently within the boundaries of some areas and are dependent, . . . on wildlife refuge subsistence resources; and to allow management flexibility in developing new and innovative management programs different from lower 48 standards, but in the context of maintaining natural diversity of fish and wildlife populations and their dependent habitats for the long term benefit of all citizens” (126 Cong. Rec. H12,352-53 (daily ed. Dec. 11, 1980) (statement of Rep. Udall).

In its ANILCA Title VIII statement of policy, Congress stated, “nonwasteful subsistence uses of fish and wildlife and other renewable resources [by rural residents] shall be the priority consumptive uses of all such resources on the public lands of Alaska when it is necessary to restrict taking in order to assure the continued viability of a fish or wildlife population or the continuation of subsistence uses of such population, the taking of such population for nonwasteful subsistence uses shall be given preference on the public land over other consumptive uses” (16 U.S.C. 3112(2)). This subsistence preference includes all National Wildlife Refuges in Alaska.

All refuges in Alaska (except the Kenai National Wildlife Refuge) have among their stated statutory purposes to provide the opportunity for continued subsistence use by local rural residents in a manner consistent with the conservation of fish and wildlife populations and habitats in their natural diversity and fulfilling the international treaty obligations of the United States with respect to fish and wildlife and their habitats. In a further statement of Title VIII policy, Congress stated that “consistent with sound management principles, and the conservation of healthy populations of fish and wildlife, the utilization of the public lands in Alaska is to cause the least adverse impact possible on rural residents who depend upon subsistence uses of the resources of such lands; consistent with management of fish and wildlife in accordance with recognized scientific principles and the purposes for each unit established . . . the purpose of this title [Title VIII] is to provide the opportunity for rural residents engaged in a subsistence way of life to do so” (16 U.S.C. 3112(1)). The Senate Committee on Energy and Natural Resources in its report on H.R. 39 stated that “the phrase `the conservation of healthy populations of fish and wildlife' is to mean the maintenance of fish and wildlife resources in their habitats in a condition which assures stable and continuing natural populations and species mix of plants and animals in relation to their ecosystems, including recognition that local rural residents engaged in subsistence uses may be a natural part of that ecosystem . . . ” (S. Rep. No. 96-413 at 233, reprinted in 1980 U.S.C.C.A.N. 5177).

The USFWS recognizes the importance of the fish, wildlife, and other natural resources in the lives and cultures of Alaska Native peoples, rural residents, and in the lives of all Alaskans, and we continue to recognize subsistence uses of fish and wildlife and other renewable resources as the priority consumptive use on Federal lands in Alaska, which includes all National Wildlife Refuges in Alaska. This proposed rule would not change existing or future Federal subsistence regulations (36 CFR 242 and 50 CFR 100) or restrict taking of fish or wildlife for subsistence uses under Federal subsistence regulations.

The Improvement Act states that refuges must be managed to fulfill the mission of the NWRS and purposes of the individual refuge. The Improvement Act also clearly states the mission of the NWRS, which is to “administer a national network of lands and waters for the conservation, management, and where appropriate, restoration of fish, wildlife, and plant resources and their habitats within the United States for the benefit of present and future generations of Americans.” Section 4(a)(4)(B) of the Improvement Act states that “In administering the System, the Secretary shall . . . ensure that the biological integrity, diversity, and environmental health [BIDEH] of the System are maintained for the benefit of present and future generations of Americans . . .” (16 U.S.C. 668dd(a)(4)(B)). The USFWS BIDEH policy (601 FW 3), which provides guidance for implementation of the Improvement Act, defines biological integrity as “biotic composition, structure, and functioning at genetic, organism, and community levels comparable with historic conditions, including the natural biological processes that shape genomes, organisms, and communities.” In that policy, biological diversity is defined as “the variety of life and its processes, including the variety of living organisms, the genetic differences among them, and communities and ecosystems in which they occur.” The policy defines environmental health as the “composition, structure, and functioning of soil, water, air, and other abiotic features comparable with historic conditions, including the natural abiotic processes that shape the environment.” Abiotic features are nonliving chemical and physical features of the environment (e.g., soil, air, water, temperature, etc.). The policy also defines “historic conditions” as the “composition, structure, and functioning of ecosystems resulting from natural processes that we believe, based on sound professional judgment, were present prior to substantial human related changes to the landscape.” In implementing this policy on refuges, we favor “management that restores or mimics natural ecosystem processes or functions to achieve refuge purposes(s).” Additionally, under this policy, we “formulate refuge goals and objectives for population management by considering natural densities, social structures, and population dynamics at the refuge level” and manage populations for “natural densities and levels of variation.”

The Wilderness Act of 1964 (16 U.S.C. 1131-1136) states that wilderness “is hereby recognized as an area where the earth and its community of life are untrammeled by man . . . which is protected and managed so as to preserve its natural conditions.” Our wilderness stewardship policy (610 FW 1) interprets “untrammeled” to be “the freedom of a landscape from the human intent to permanently intervene, alter, control, or manipulate natural conditions or processes.” The second chapter of the wilderness stewardship policy, which outlines administration and resource stewardship (610 FW 2), directs that USFWS will not manipulate ecosystem processes, specifically including predator/prey fluctuations, in wilderness areas unless “necessary to accomplish the purposes of the refuge, including Wilderness Act purposes, or in cases where these processes become unnatural” (i.e., disrupted predator/prey relationships, spread of invasive species, and so forth). Additionally, nothing in this proposed rule applies to or is inconsistent with our policy that outlines special provisions for Alaska wilderness (610 FW 5).

The overarching goal of our wildlife-dependent recreation policy is to enhance opportunities and access to quality visitor experiences on refuges and to manage the refuge to conserve fish, wildlife, plants, and their habitats (605 FW 1.6). We recognize hunting as one of many priority uses of the Refuge System (when and where compatible with refuge purposes) that is a healthy, traditional outdoor pastime, deeply rooted in the American heritage (605 FW 2). As stated in part 36 of title 50 of the Code of Federal Regulations (50 CFR 36), the taking of fish and wildlife through public recreational activities, including sport hunting, is authorized on refuges in Alaska “as long as such activities are conducted in manner compatible with the purposes for which the areas were established” (50 CFR 36.31(a)).

Sport hunting and trapping on refuges is generally regulated by the States, unless further restricted by Federal law (see 50 CFR 32.2(d)) or closures to Federal public land, such as under Federal subsistence regulations (36 CFR 242.26 or 50 CFR 100.26). In Alaska, sport hunting is commonly referred to as general hunting and trapping and includes State subsistence hunts and general permits open to both Alaska residents and nonresidents (see proposed definition under the Proposed Regulation Promulgation section, below). These activities remain subject to Federal law, including mandates under ANILCA; the Improvement Act; and, where applicable, the Wilderness Act. Applicable directives and guidance can also be found in policies in the USFWS Manual at 601 FW 3 (Biological Integrity, Diversity, and Environmental Health), 610 FW 2 (Wilderness Administration and Resource Stewardship), and 605 FW 2 (Hunting). Additionally, the regulations at 50 CFR 36.32(a) state that the Refuge Manager “may designate areas where, and establish periods when, no taking of a particular population of fish or wildlife shall be permitted.”

The State of Alaska's (State) legal framework for managing wildlife in Alaska is based on sustained yield, which is defined by statute to mean “the achievement and maintenance in perpetuity of the ability to support a high level of human harvest of game, subject to preferences among beneficial uses, on an annual or periodic basis” (Alaska Statute (AS) 16.05.255(j)(5)). Since 1994, Alaska State law (AS 16.05.255) has prioritized human consumptive use of ungulates—specifically moose, caribou, and deer. Known as the Intensive Management (IM) statute, the law requires the Alaska Board of Game (BOG) to designate populations of ungulates for which human consumptive use is the highest priority use and to set population and harvest objectives for those populations. To that end, the BOG must “adopt regulations to provide for intensive management programs to restore the abundance or productivity of identified big game prey populations as necessary to achieve human consumptive use goals” (AS 16.05.255(e)). Once designated as an IM population, if either populations or harvests fail to meet management objectives, nonresident hunting must first be eliminated, followed by reductions or eliminations of resident harvest opportunities. However, under the IM statute, the BOG may not significantly reduce the harvest opportunities of an identified IM ungulate population unless it has adopted or is considering the adoption of regulations “to restore the abundance or productivity of the ungulate population through habitat enhancement, predation control, or other means” (AS 16.05.255(e)-(g) and (j)).

The BOG has adopted regulations under the IM statute that require targeted reductions of wolf, black bear, brown bear, or a combination of these in designated “predation control areas” within game management units. These State regulations are implemented through IM plans that authorize activities including aerial shooting of wolves or bears or both by State agency personnel, trapping of wolves by paid contractors, allowance under permit for same-day airborne hunting of wolves and bears by the public, and allowance under permit for the take of any black or brown bear through baiting or snaring by the public (5 Alaska Administrative Code (AAC) 92).

Thirteen of the 16 refuges in Alaska contain lands within game management units officially designated for IM. While predator control activities occurring under the authority of an IM plan have not been permitted by USFWS on any refuge in Alaska, some predator control programs and activities are being implemented in predation control areas immediately adjacent to refuges. Given the large home ranges of many species affected by IM actions, these control programs have the potential to impact wildlife resources, natural systems, and ecological processes, as well as conservation and management of these species on adjacent refuges.

In recent years, concurrent with its adoption and implementation of IM plans for predation control areas, the BOG has also authorized measures under its general hunting and trapping regulations that have the potential to greatly increase effectiveness of the take of predators and to disrupt natural processes and wildlife interactions. Examples of these recently adopted measures, which apply beyond areas officially designated for IM, including many refuges in Alaska, are:

• Harvesting brown bears over bait at registered black bear bait stations;

• Taking wolves and coyotes (including pups) during the denning season;

• Expanding season lengths and increasing bag limits;

• Classifying black bears as both furbearers and big game species (which could allow for trapping and snaring of bears and sale of their hides and skulls); and

• Authorizing same-day airborne take of bears at registered bait stations (5 AAC 85).

Many of the recent actions by the BOG to liberalize the State's regulatory frameworks for general hunting and trapping of wolves, bears, and coyotes reverse long-standing prohibitions and restrictions on take of these wildlife species under State law. Unlike the recent practice of taking brown bears over bait, black bear baiting has been an authorized practice in Alaska since 1982, including on refuges. Black bear baiting is authorized by the State pursuant to a permit and, in some instances, a special use permit (USFWS Form 3-1383-G) issued by refuges. Taking of brown bears at black bear baiting stations was recently authorized under State regulations in certain game management units within the State (several of which are within refuges) and is subject to the same restrictions as black bear baiting. The State regulations prohibit setting up a bait station within 1 mile of a home or other dwelling, business, or campground, or within ¼ mile of a road or trail (5 AAC 85).

Implementation of IM actions under the IM statute and many of the recent liberalizations of the general hunting and trapping regulations have direct implications for the management of refuges in Alaska. Predator-prey interactions represent a dynamic and foundational ecological process in Alaska's arctic and subarctic ecosystems, and are a major driver of ecosystem function. Regulations or activities on refuges in Alaska that are inconsistent with the conservation of fish and wildlife populations and their habitats in their natural diversity, or the maintenance of biological integrity, diversity, and environmental health, are in direct conflict with our legal mandates for administering refuges in Alaska under ANILCA, the Improvement Act, and the Wilderness Act, as well as with several applicable agency policies (601 FW 3, 610 FW 2, and 605 FW 2).

The USFWS is mandated to conserve species and habitats in their natural diversity and ensure that biological integrity, diversity, and environmental health are maintained on refuges in Alaska for the continuing benefit of present and future generations. In managing for natural diversity, the USFWS conserves, protects, and manages all fish and wildlife populations within a particular wildlife refuge system unit in the natural `mix,' not to emphasize management activities favoring one species to the detriment of another. The USFWS assures that habitat diversity is maintained through natural means on refuges in Alaska, avoiding artificial developments and habitat manipulation programs, whenever possible. The USFWS fully recognizes and considers that rural residents use, and are often dependent on, refuge resources for subsistence purposes, and the USFWS manages for this use consistent with the conservation of species and habitats in their natural diversity. The terms biological integrity, diversity, and environmental health are defined in the BIDEH policy (601 FW 3), which directs the USFWS to maintain the variety of life and its processes; to maintain biotic and abiotic compositions, structure, and functioning; and to manage populations for natural densities and levels of variation throughout the NWRS.

Proposal

This proposed rule would not change Federal subsistence regulations (36 CFR 242 and 50 CFR 100) or otherwise restrict the taking of fish or wildlife for subsistence by federally qualified users under those regulations. This proposed rule would also not apply to take in Defense of Life and Property as defined under State regulations (see 5 AAC 92.410). Hunting and trapping are priority uses of refuges in Alaska. The proposed rule would not affect implementation of State hunting and trapping regulations that are consistent with Federal law and USFWS policies on refuges, nor would it restrict hunting or trapping activities outside USFWS-managed refuge lands and waters.

The proposed rule would make the following substantive changes:

(1) We would prohibit predator control on refuges in Alaska, unless it is determined necessary to meet refuge purposes, Federal laws, or policy; is consistent with our mandates to manage for natural and biological diversity, biological integrity, and environmental health; and is based on sound science in response to a significant conservation concern. Demands for more wildlife for human harvest cannot be the sole or primary basis for predator control. A Refuge Manager could authorize predator control activities on a National Wildlife Refuge in Alaska only if:

(a) Alternatives to predator control have been evaluated, attempted, and exhausted as a practical means of achieving management objectives;

(b) Proposed actions have been evaluated and found to be in compliance with the National Environmental Policy Act (42 U.S.C. 4321 et seq.);

(c) A formal refuge compatibility determination has been completed, as required by law; and

(d) The potential effects of predator control on subsistence uses and needs have been evaluated through an ANILCA section 810 analysis.

For clarity, we would define predator control as the intention to reduce the population of predators for the benefit of prey species. The USFWS in Alaska's position for the last three decades has been that the need for predator control must be based on sound science in response to a significant conservation concern. This requirement is consistent with managing for the conservation of natural and biological diversity, biological integrity, and environmental health under ANILCA and the Improvement Act.

This proposed rule would ensure that take of wildlife under State regulations and implementation of predator control on refuges in Alaska are consistent with our legal mandates and policies for administration of those refuges.

(2) We would also prohibit certain practices for the taking of wildlife on Alaska National Wildlife refuges (except for subsistence uses by federally qualified subsistence users in accordance with applicable Federal laws and regulations), including:

• Taking black or brown bear cubs or sows with cubs (exception allowed for resident hunters to take black bear cubs or sows with cubs under customary and traditional use activities at a den site October 15-April 30 in specific game management units in accordance with State law);

• Taking brown bears over bait;

• Taking of bears using traps or snares;

• Taking wolves and coyotes during the denning season (May 1-August 9); and

• Taking bears from an aircraft or on the same day as air travel has occurred. The take of wolves or wolverines from an aircraft or on the same day as air travel has occurred is already prohibited under current refuge regulations, and this would not change.

The USFWS is seeking comment on the type of bait allowed to be used for the baiting of black or brown bears. Currently, State regulations, which are adopted on refuges, require the bait used at bear baiting stations to be biodegradable. People use a range of different types of bait for the baiting of bears, including parts of fish and game that are not required to be salvaged when these species are harvested, as well as human and pet food products.

(3) We would update our regulations to reflect Federal assumption of management of subsistence hunting and fishing under Title VIII of ANILCA by the Federal Government from the State in the 1990s.

(4) We would amend 50 CFR 32.2(h) to state that black bear baiting is authorized in accordance with State regulations on national wildlife refuges in Alaska. This change would help ensure consistency in our regulations if the amendments to 50 CFR 36, as presented in this proposed rule, are adopted.

(5) We would update procedures for implementing closures or restrictions on refuges, including the taking of fish and wildlife under sport hunting and trapping, to more effectively engage and inform the public and make the notice and durational provisions more consistent with procedures set forth in Federal subsistence closure policy and regulations at 36 CFR 242.19 and 50 CFR 100.19 for emergency special actions on Federal public lands in Alaska. Improved consistency between these Federal regulations and processes is intended to help minimize confusion and make it easier for the public to be involved in the process.

Under the proposed rule, the Regional Director will compile a list, updated at least annually, of Alaska refuge closures and restrictions under Federal Alaska refuge regulations. Notice would be provided in accordance with the procedures set forth at 50 CFR 36.42. This annual list would include contact information for the lead staff and a process for the public to provide input and review.

The current regulations provide for emergency, temporary, and permanent restrictions. The proposed changes would outline emergency restrictions, limited to 60 days, and temporary restrictions, limited to the minimum time necessary, with review at least every 3 years.

We would also update the closures and restrictions notification procedures for refuges in Alaska to reflect the availability of alternative communications technologies and approaches that have emerged or evolved over the last few decades. These changes recognize that the Internet has become one of the primary methods to communicate with the public and is an effective tool for engaging Alaskans and the broader American public and that there are other forms of broadcast media, beyond just the radio, that we may want to use.

The proposed changes to the notification procedures are not intended to limit public involvement or reduce public notice; rather, we intend to engage in ways more likely to encourage public involvement and in a manner that is fiscally sustainable. We recognize that in-person public meetings will still be the most effective way to engage Alaskans, and we intend to continue that practice. We also recognize that many individuals in rural Alaska do not have access to high speed Internet, and for that reason, we will continue to use other methods of communication, such as newspapers and radio, where available to provide adequate notice.

The following table summarizes the changes we propose to the existing procedures for public participation and closures at 50 CFR 36.42:

Current | Proposed update
Authority
Refuge Manager may close an area or restrict an activity on an emergency, temporary, or permanent basis | No updates being considered.
Criteria (50 CFR 36.42(b))
Criteria includes: Public health and safety, resource protection, protection of cultural or scientific values, subsistence uses, endangered or threatened species conservation, and other management considerations necessary to ensure that the activity or area is being managed in a manner compatible with refuge purposes | Add conservation of natural diversity, biological integrity, biological diversity, and environmental health to the current list of criteria.
Emergency closures or restrictions (50 CFR 36.42(c))
Emergency closure may not exceed 30 days | Increase the period from 30 to 60 days, with extensions beyond 60 days being subject to nonemergency closure procedures (i.e., temporary or permanent).
Closure effective upon notice as prescribed in 50 CFR 36.42(f) (see below for details). Closures related to the taking of fish and wildlife will be accompanied by notice with a subsequent hearing | Closure effective upon notice as prescribed in 50 CFR 36.42(f) (see below for details).
Temporary closures or restrictions (50 CFR 36.42(d))
May extend only for as long as necessary to achieve the purpose of the closure or restriction, not to exceed or be extended beyond 12 months | Temporary closures or restrictions related to the taking of fish and wildlife may still only extend for so long as necessary to achieve the purpose of the closure or restriction. These closures or restrictions will be periodically re-evaluated at least every 3 years to determine whether the circumstances necessitating the original closure still exist and warrant continuation of the restriction. A formal finding will be made in writing that explains the reasoning for the decision. When a closure is no longer needed, action to remove it will be initiated as soon as practicable. The USFWS will maintain a list of all refuge closures and publish this list annually for public review.
Closure effective upon notice as prescribed in 50 CFR 36.42(f) (see below for details). Closures related to the taking of fish and wildlife effective upon notice and hearing in the vicinity of the area(s) affected by such closures or restriction, and other locations as appropriate | Closure subject to notice procedures as prescribed in 50 CFR 36.42(f) (see below for details). Closures related to the taking of fish and wildlife would require consultation with the State and affected Tribes and Native Corporations, as well as the opportunity for public comment and a public hearing in the vicinity of the area(s) affected.
Permanent closures or restrictions (50 CFR 36.42(e))
No time limit Closure effective after notice and public hearings in the affected vicinity and other locations as appropriate, and after publication in the Federal Register | No time limit. Closures related to the taking of fish and wildlife would require consultation with the State and affected Tribes and Native Corporations, as well as the opportunity for public comment and a public hearing in the vicinity of the area(s) affected. Closures would continue to be published in the Federal Register.
Notice (50 CFR 36.42(f))
Notice is to be provided through newspapers, signs, and radio | Add the use of the Internet, broadcast media, or other available methods, in addition to continuing to use the more traditional methods of newspapers, signs, and radio.

(6) We propose to codify definitions for several terms (see the Proposed Regulation Promulgation section, below). These terms include “Bait,” “Big game,” “Biological diversity,” “Biological integrity,” “Cub bear,” “Environmental health,” “Furbearer,” “Historic conditions,” “Natural diversity,” “Predator control,” “Regional Director,” “Sport hunting,” and “Trapping.” Most of these definitions, including bait, big game, cub bear, furbearer, and predator control, are based on existing definitions in Federal subsistence regulations or policy.

During our scoping and tribal consultation efforts, we heard that the definitions for biological integrity, biological diversity, natural diversity, and environmental health and the origins of these definitions were of significant interest to people. As discussed earlier in the preamble, the USFWS is mandated under the Improvement Act to “ensure that the biological integrity, diversity, and environmental health [BIDEH] of the System are maintained for the benefit of present and future generations of Americans . . .” (16 U.S.C. 668dd(a)(4)(B)). The USFWS BIDEH policy (601 FW 3), which provides guidance for implementation of the Improvement Act, provides definitions for each of these terms, as well as the term “historic conditions,” and those definitions are included word-for-word in this proposed rule. As was also discussed earlier in the preamble, under ANILCA, each refuge in Alaska has an establishment purpose to “conserve fish and wildlife populations and habitats in their natural diversity.” Our proposed definition for natural diversity is based on the discussion of the term in the legislative history of ANILCA.

Required Determinations

Regulatory Planning and Review (Executive Orders 12866 and 13563)

Executive Order 12866 provides that the Office of Information and Regulatory Affairs (OIRA) in the Office of Management and Budget will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act

Under the Regulatory Flexibility Act (RFA; 5 U.S.C. 601 et seq., as amended by the Small Business Regulatory Enforcement Fairness Act (SBREFA) of 1996), whenever an agency must publish a notice of rulemaking for any proposed or final rule, it must prepare and make available for public comment a regulatory flexibility analysis that describes the effects of the rule on small entities (small businesses, small organizations, and small government jurisdictions). However, no regulatory flexibility analysis is required if the head of the agency certifies the rule will not have a significant economic impact on a substantial number of small entities. SBREFA amended the RFA to require Federal agencies to provide a statement of the factual basis for certifying that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would have a significant economic impact on a substantial number of small entities.

The proposed rule would amend regulations for refuges in Alaska. The proposed rule would: (1) Codify how our existing mandates for the conservation of natural and biological diversity, biological integrity, and environmental health on refuges in Alaska relate to predator control (50 CFR 36.1); (2) prohibit several particularly effective methods and means for take of predators (50 CFR 36.32); and (3) update our public participation and closure procedures (50 CFR 36.42). Predator control is prohibited on refuges in Alaska unless it is determined necessary to meet refuge purposes, Federal laws, or policy and is consistent with our mandates to manage for natural and biological diversity, biological integrity, and environmental health. The need for predator control must be based on sound science in response to a significant conservation concern. Demands for more wildlife to harvest cannot be the sole or primary basis for predator control. This rule would not change Federal subsistence regulations (36 CFR 242 and 50 CFR 100) or restrict taking of fish or wildlife for subsistence uses under Federal subsistence regulations. Codifying our existing mandates on conservation of natural diversity, biological integrity, biological diversity, and environmental health would not have a significant impact because the USFWS is and has been required to manage refuges in Alaska consistent with these mandates for the last several decades since they were put into effect. Codifying previously and currently prohibited sport hunting and trapping practices would not have a significant impact because the few changes that have occurred have been relatively recent, occurring over the last several years, and this rule would actually constitute a change back to the status quo. State general hunting and trapping regulations currently apply to refuges in Alaska. Therefore, the prohibition of particular methods and means for the take of predators under State regulations on refuges in Alaska that may affect visitor use on those refuges include the take of brown bears over bait, take of wolves and coyotes during the denning season, and same-day airborne take of bears. The take of black bear sows with cubs is only allowed under State regulations in specific game management units for customary and traditional use; therefore it is not currently nor in the past has it been legal for the general public to participate in this activity outside of that framework. As a result, big game hunting may decrease if a hunter's preferred hunting method is prohibited. Conversely, wildlife watching activities may increase if there are increased opportunities to view wildlife, including bears, wolves, and coyotes. From 2009 to 2013, big game hunting on refuges in Alaska averaged about 40,000 days annually and represented 2 percent of wildlife-related recreation on refuges. For Statewide hunting, big game hunting on refuges in Alaska represented only 4 percent of all big game hunting days (1.2 million days). Due to the past ban on these proposed prohibited methods and means for take of predators, we estimate that these hunting methods (take of brown bears over bait, take of wolves and coyotes during the denning season, and same-day airborne take of bears) represent a small fraction of all big game hunting on refuges. As a result, big game hunting on refuges would change minimally. This change in opportunity would most likely be offset by other sites (located outside of refuges) gaining participants. Therefore, there would be a substitute site for these hunting methods, and participation rates would not necessarily change.

Hunters' spending contributes income to the regional economy and benefits local businesses. Due to the unavailability of site-specific expenditure data, we use the Alaska estimate from the 2011 National Survey of Fishing, Hunting, and Wildlife Associated Recreation to identify expenditures for food and lodging, transportation, and other incidental expenses. Using the average trip-related expenditures for big game hunting ($139 per day) yields approximately $5.9 million annually in big game hunting-related expenditures on refuges in Alaska. Since only a small fraction of big game hunters would choose not to hunt on refuges under the proposed rule, the impact would be minimal. The net loss to the local communities would be no more than $5.9 million annually, and most likely considerably less because few hunters use the prohibited methods and those hunters that do would likely choose a substitute site.

Small businesses within the retail trade industry (such as hotels, gas stations, taxidermy shops, etc.) may be impacted from some decreased refuge visitation. A large percentage of these retail trade establishments in local communities around refuges qualify as small businesses. We expect that the incremental recreational changes will be scattered, and so we do not expect that the rule would have a significant economic effect on a substantial number of small entities in Alaska.

With the small change in overall spending anticipated from this proposed rule, it is unlikely that a substantial number of small entities would have more than a small impact from the spending change near the affected refuges. Therefore, we certify that this proposed rule would not have a significant economic effect on a substantial number of small entities as defined under the Regulatory Flexibility Act (5 U.S.C. 601 et seq.) An initial regulatory flexibility analysis is not required. Accordingly, a small entity compliance guide is not required.

Small Business Regulatory Enforcement Fairness Act (SBREFA)

This proposed rule is not a major rule under 5 U.S.C. 804(2), the SBREFA. This rule:

a. Would not have an annual effect on the economy of $100 million or more.

b. Would not cause a major increase in costs or prices for consumers; individual industries; Federal, State, or local government agencies; or geographic regions.

c. Would not have significant adverse effects on competition, employment, investment, productivity, innovation, or the ability of U.S. based enterprises to compete with foreign-based enterprises.

Unfunded Mandates Reform Act

This proposed rule would not impose an unfunded mandate on State, local, or tribal governments or the private sector of more than $100 million per year. The rule would not have a significant or unique effect on State, local, or tribal governments or the private sector. A statement containing the information required by the Unfunded Mandates Reform Act (2 U.S.C. 1531 et seq.) is not required.

Takings (Executive Order 12630)

This proposed rule does not involve the taking of private property or otherwise have taking implications under Executive Order 12630. This proposed rule, if adopted, would affect the public use and management of Federal lands managed by USFWS in Alaska. A takings implication assessment is not required.

Federalism (Executive Order 13132)

In accordance with Executive Order 13132, this proposed rule does not have significant Federalism effects. A federalism summary impact statement is not required. This proposed rule, if adopted, would affect the public use and management of Federal lands managed by USFWS in Alaska and would not have a substantial direct effect on State or local governments in Alaska.

Civil Justice Reform (Executive Order 12988)

This proposed rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards.

Government-to-Government Relationship With Tribes

In accordance with the President's memorandum of April 29, 1994 (Government-to-Government Relations with Native American Tribal Governments; 59 FR 22951 (May 4, 1994)), Executive Order 13175 (Consultation and Coordination with Indian Tribal Governments; 65 FR 67249 (November 9, 2000)), and the Department of the Interior Manual, 512 DM 2, we readily acknowledge our responsibility to communicate meaningfully with recognized Federal Tribes on a government-to-government basis, and we are seeking the Tribes' input in evaluating this proposed rule. In addition, we have evaluated this proposed rule in accordance with 512 DM 4 under Department of the Interior Policy on Consultation with Alaska Native Claims Settlement Act (ANCSA) Corporations, August 10, 2012. We have been and will continue to consult with Alaska Native tribes and Alaska Native corporations regarding this proposed rule.

Paperwork Reduction Act of 1995 (PRA)

This proposed rule does not contain any new collections of information that require approval by the Office of Management and Budget (OMB) under the PRA (44 U.S.C. 3501 et seq.). The special use permit mentioned in this proposed rule, FWS Form 3-1383-G, is already approved by OMB under OMB control number 1018-0102, which expires on June 30, 2017. We may not conduct or sponsor, and a person is not required to respond to, a collection of information unless it displays a currently valid OMB control number.

National Environmental Policy Act

We have analyzed this rule in accordance with the criteria of the National Environmental Policy Act (42 U.S.C. 4321 et seq.) and the Department of the Interior's manual at 516 DM. An environmental assessment has been prepared and is available for public comment during the comment period for this proposed rule. A copy of the environmental assessment can be found at http://www.regulations.gov under Docket No. FWS-R7-NWRS-2014-0005.

Energy Supply, Distribution, or Use (Executive Order 13211)

Executive Order 13211 requires agencies to prepare Statements of Energy Effects when undertaking actions that significantly affect energy supply, distribution, or use. We believe that the rule would not have any effect on energy supplies, distribution, or use. Therefore, this action is not a significant energy action, and no Statement of Energy Effects is required.

Clarity of This Rule

We are required by Executive Orders 12866 and 12988 and by the Presidential Memorandum of June 1, 1998, to write all rules in plain language. This means that each rule we publish must:

(a) Be logically organized;

(b) Use the active voice to address readers directly;

(c) Use common, everyday words and clear language rather than jargon;

(d) Be divided into short sections and sentences; and

(e) Use lists and tables wherever possible.

If you feel that we have not met these requirements, send us comments by one of the methods listed in the ADDRESSES section, above. To better help us revise the rule, your comments should be as specific as possible. For example, you should tell us the numbers of the sections or paragraphs that you find unclear, which sections or sentences are too long, the sections where you feel lists or tables would be useful, etc.

Authors

The primary authors of this proposed rule are Heather Abbey Tonneson and Stephanie Brady of the U.S. Fish and Wildlife Service, Alaska Regional Office, with considerable review and input from other USFWS Alaska refuge and Office of Subsistence Management managerial and biological staff.

Public Participation

It is the policy of the Department of the Interior, whenever practicable, to afford the public an opportunity to participate in the rulemaking process. Accordingly, interested persons may submit written comments regarding this proposed rule by one of the methods listed in the ADDRESSES section, above. In addition, see the related document published elsewhere in today's Federal Register with information on nine open houses and public hearings that will be held in various locations around the State and at which comments will be accepted.

Public Availability of Comments

Before including your address, phone number, email address, or other personal identifying information in your comment, you should be aware that your entire comment—including your personal identifying information—may be made publicly available at any time. While you can ask us in your comment to withhold your personal identifying information from public review, we cannot guarantee that we will be able to do so.

List of Subjects

50 CFR Part 32

Fishing, Hunting, Reporting and recordkeeping requirements, Wildlife, Wildlife refuges.

50 CFR Part 36

Alaska, Recreation and recreation areas, Reporting and recordkeeping requirements, Wildlife refuges.

Accordingly, we propose to amend title 50, chapter I, subchapter C, of the Code of Federal Regulations as follows:

PART 32—HUNTING AND FISHING

1. The authority citation for part 32 continues to read as follows:

Authority: 5 U.S.C. 301; 16 U.S.C. 460k, 664, 668dd-668ee, and 715i.

§ 32.2 [Amended]

2. Amend § 32.2(h) by removing the words, “(Baiting is authorized in accordance with State regulations on national wildlife refuges in Alaska).” and adding in their place the words, “(Black bear baiting is authorized in accordance with State regulations on national wildlife refuges in Alaska.)”.

PART 36—ALASKA NATIONAL WILDLIFE REFUGES

3. The authority citation for part 36 continues to read as follows:

Authority: 16 U.S.C. 460(k) et seq., 668dd-668ee, 3101 et seq.

Subpart A—Introduction and General Provisions

4. Amend § 36.1 by:

a. Redesignating paragraphs (a), (b), and (c) as paragraphs (b), (c), and (d), respectively; and

b. Adding a new paragraph (a) to read as follows:

§ 36.1 How do the regulations in this part apply to me and what do they cover?

(a) National Wildlife Refuges in Alaska are maintained to conserve species and habitats in their natural diversity and to ensure biological integrity, diversity, and environmental health for the continuing benefit of present and future generations.

* * * * *

5. Amend § 36.2 by adding, in alphabetical order, definitions for “Bait,” “Big game,” “Biological diversity,” “Biological integrity,” “Cub bear,” “Environmental health,” “Furbearer,” “Historic conditions,” “Natural diversity,” “Predator control,” “Regional Director,” “Sport hunting,” and “Trapping,” to read as follows:

§ 36.2 What do these terms mean?

* * * * *

Bait means any material excluding a scent lure that is placed to attract an animal by its sense of smell or taste; however, those parts of legally taken animals that are not required to be salvaged and which are left at the kill site are not considered bait.

Big game means black bear, brown bear, bison, caribou, Sitka black-tailed deer, elk, mountain goat, moose, muskox, Dall sheep, wolf, and wolverine.

Biological diversity means the variety of life and its processes, including the variety of living organisms, the genetic differences among them, and communities and ecosystems in which they occur.

Biological integrity means the biotic compositions, structure, and functioning at genetic, organism, and community level comparable with historic conditions, including the natural biological processes that shape genomes, organisms, and communities.

Cub bear means a brown (grizzly) bear in its first or second year of life, or a black bear (including the cinnamon and blue phases) in its first year of life.

* * * * *

Environmental health means the composition, structure, and functioning of soil, water, air, and other abiotic features comparable with historic conditions, including the natural abiotic processes that shape the environment.

* * * * *

Furbearer means a beaver, coyote, arctic fox, red fox, lynx, marten, mink, least weasel, short-tailed weasel, muskrat, river (land) otter, flying squirrel, ground squirrel, red squirrel, Alaskan marmot, hoary marmot, woodchuck, wolf, or wolverine.

Historic conditions means the composition, structure, and functioning of ecosystems resulting from natural processes that we believe, based on sound professional judgment, were present prior to substantial human related changes to the landscape.

Natural diversity means the existence of all fish, wildlife, and plant populations within a particular wildlife refuge system unit in the natural mix and in a healthy condition for the long term benefit of current and future generations. Managing for natural diversity includes avoiding emphasis of management activities favoring some species to the detriment of others; assuring that habitat diversity is maintained through natural means, avoiding artificial developments and habitat manipulation programs whenever possible; and taking into consideration the fact that humans are dependent on wildlife refuge subsistence resources.

* * * * *

Predator control is the intention to reduce the population of predators for the benefit of prey species.

* * * * *

Regional Director means the Alaska Regional Director of the U.S. Fish and Wildlife Service, or an authorized representative.

* * * * *

Sport hunting means the taking of or attempting to take wildlife under State hunting or trapping regulations. In Alaska, this is commonly referred to as general hunting and trapping and includes State subsistence hunts and general permits open to both Alaska residents and nonresidents.

* * * * *

Trapping means taking furbearers under a trapping license.

* * * * *

Subpart B—Subsistence Uses

§ 36.11 [Amended]

6. Amend § 36.11 by removing paragraph (d) and by redesignating paragraph (e) as paragraph (d).

7. Revise § 36.13 to read as follows:

§ 36.13 Subsistence fishing.

Fish may be taken by Federally qualified subsistence users, as defined at 50 CFR part 100.5, for subsistence uses on Alaska National Wildlife Refuges where subsistence uses are allowed in compliance with this subpart and 50 CFR part 100.

8. Revise § 36.14 to read as follows:

§ 36.14 Subsistence hunting and trapping.

Federally qualified subsistence users, as defined at 50 CFR part 100.5, may hunt and trap wildlife for subsistence uses on Alaska National Wildlife Refuges where subsistence uses are allowed in compliance with this subpart and 50 CFR part 100.

Subpart D—Non-subsistence Uses

9. Revise the heading of subpart D to read as set forth above.

10. Amend § 36.32 to read as follows:

§ 36.32 Taking of fish and wildlife.

(a) The taking of fish and wildlife for sport hunting and trapping and for sport fishing is authorized in accordance with applicable State and Federal law, and such laws are hereby adopted and made a part of these regulations, except as noted below and provided however, that the Refuge Manager, pursuant to § 36.42, may designate areas where, and establish periods when, no taking of a particular population of fish or wildlife will be allowed.

(b) Predator control is prohibited on National Wildlife Refuges in Alaska, unless it is determined necessary to meet refuge purposes, Federal laws, or policy; is consistent with our mandates to manage for natural and biological diversity, biological integrity, and environmental health; and is based on sound science in response to a significant conservation concern. Demands for more wildlife for human harvest cannot be the sole or primary basis for predator control. A Refuge Manager will authorize predator control activities on a National Wildlife Refuge in Alaska only if:

(1) Alternatives to predator control have been evaluated, attempted, and exhausted as a practical means of achieving management objectives;

(2) Proposed actions have been evaluated in compliance with the National Environmental Policy Act (42 U.S.C. 4321 et seq.);

(3) A formal refuge compatibility determination has been completed, as required by law; and

(4) The potential effects of predator control on subsistence uses and needs have been evaluated through an ANILCA section 810 analysis.

(c) The exercise of valid commercial fishing rights or privileges obtained pursuant to existing law, including any use of refuge areas for campsites, cabins, motorized vehicles, and aircraft landing directly incident to the exercise of such rights or privileges, is authorized; Provided, however, that the Refuge Manager may restrict or prohibit the exercise of these rights or privileges or uses of federally owned lands directly incident to such exercise if the Refuge Manager determines, after conducting a public hearing in the affected locality, that they are inconsistent with the purposes of the refuge and that they constitute a significant expansion of commercial fishing activities within such refuge beyond the level of such activities in 1979.

(d) The following provisions apply to any person while engaged in the taking of fish and wildlife within an Alaska National Wildlife Refuge:

(1) Trapping and sport hunting. (i) Each person must secure and possess all required State licenses and must comply with the applicable provisions of State law unless further restricted by Federal law;

(ii) Each person must comply with the applicable provisions of Federal law;

(iii) In addition to the requirements of paragraphs (a) and (b) of this section, each person must continue to secure a trapping permit from the appropriate Refuge Manager prior to trapping on the Kenai, Izembek, and Kodiak Refuges and the Aleutian Islands Unit of the Alaska Maritime Refuge.

(iv) It is unlawful for a person having been airborne to use a firearm or any other weapon to take or assist in taking any species of bear, wolf, or wolverine until after 3 a.m. on the day following the day in which the flying occurred, except that a trapper may use a firearm or any other weapon to dispatch a legally caught wolf or wolverine in a trap or snare on the same day in which the flying occurred. This prohibition does not apply to flights on regularly scheduled commercial airlines between regularly maintained public airports.

(v) The following methods and means for take of wildlife are prohibited:

Prohibited acts | Exceptions
(A) Using snares, nets, or traps to take any species of bear | None.
(B) Using bait | (1) Bait may be used to trap furbearers. (2) Bait may be used to hunt black bears.
(C) Taking wolves and coyotes from May 1 through August 9 | None.
(D) Taking bear cubs or sows with cubs | In accordance with Alaska State law and regulation, resident hunters may take black bear cubs or sows with cubs under customary and traditional use activities at a den site October 15—April 30 in game management units 19A, 19D, 21B, 21C, 21D, 24, and 25D.

(2) Sport and commercial fishing. (i) Each person must secure and possess all required State licenses and must comply with the applicable provisions of State law unless further restricted by Federal law;

(ii) Each person must comply with the applicable provisions of Federal law.

(e) Persons transporting fish or wildlife through Alaska National Wildlife Refuges must carry an Alaska State hunting or fishing license, or in cases where a person is transporting game for another person, they are required to carry an Alaska State “Transfer of Possession Form” on their person and make these available when requested by law enforcement personnel.

(f) Nothing in this section applies to or restricts the taking or transporting of fish and wildlife by Federally qualified subsistence users under Federal subsistence regulations.

(g) Animal control programs will only be conducted in accordance with a special use permit issued by the Refuge Manager.

11. Amend § 36.42 by revising paragraphs (a), (b), (c)(4), (d), (e), (f), (g), and (h) to read as follows:

§ 36.42 Public participation and closure procedures.

(a) Applicability and authority. The Refuge Manager may close an area or restrict an activity in an Alaska National Wildlife Refuge on an emergency, temporary, or permanent basis in accordance with this section.

(b) Criteria. In determining whether to close an area or restrict an activity otherwise allowed, the Refuge Manager will be guided by factors such as public health and safety; resource protection; protection of cultural or scientific values; subsistence uses; conservation of endangered or threatened species; conservation of natural diversity, biological integrity, biological diversity, and environmental health; or other management considerations necessary to ensure that the activity or area is being managed in a manner compatible with the purposes for which the Refuge was established.

(c) * * *

(4) Emergency closures or restrictions may not exceed a period of 60 days. Extensions beyond 60 days are subject to nonemergency closure procedures.

(d) Temporary closures or restrictions. (1) Temporary closures or restrictions relating to the use of aircraft, snowmachines, motorboats, or nonmotorized surface transportation will be effective only after notice and hearing in the vicinity of the area(s) affected by such closures or restriction, and other locations as appropriate.

(2) Temporary closures or restrictions related to the taking of fish and wildlife will be effective only after allowing for the opportunity for public comment and a public hearing in the vicinity of the area(s) affected. Temporary closures or restrictions related to the taking of fish and wildlife also require consultation with the State and affected Tribes and Native Corporations.

(3) Other temporary closures will be effective upon notice as set forth at § 36.42(f).

(4) Temporary closures or restrictions, other than those relating to the taking of fish and wildlife, will extend only for as long as necessary to achieve the purpose of the closure or restriction, not to exceed 12 months.

(5) Temporary closures or restrictions related to the taking of fish and wildlife will extend only for as long as necessary to achieve the purpose of the closure or restriction. These temporary closures and restrictions will be periodically re-evaluated as necessary, at least every 3 years, to determine whether the circumstances necessitating the original closure or restriction still exist and warrant continuation. A formal finding will be made in writing that explains the reasoning for the decision. When a closure is no longer needed, action to remove it will be initiated as soon as practicable.

(6) The U.S. Fish and Wildlife Service will maintain a list of all refuge closures and restrictions and will publish this list annually for public review.

(e) Permanent closures or restrictions. Permanent closures or restrictions relating to the use of aircraft, snowmachines, motorboats, or nonmotorized surface transportation, or taking of fish and wildlife, will be effective only after allowing for the opportunity for public comment and a public hearing in the vicinity of the area(s) affected and publication in the Federal Register. Permanent closures or restrictions related to the taking of fish and wildlife would require consultation with the State and affected Tribes and Native Corporations.

(f) Notice. Emergency, temporary, or permanent closures or restrictions will be published on the U.S. Fish and Wildlife Service's Web site at http://www.fws.gov/alaska/nwr/ak_sp_hunt_regs.htm. Additional means of notice reasonably likely to inform residents in the affected vicinity will also be provided where available, such as:

(1) Publication in a newspaper of general circulation in the State and in local newspapers;

(2) Use of electronic media, such as the Internet and email lists;

(3) Broadcast media (radio, television, etc.); or

(4) Posting of signs in the local vicinity or at the Refuge Manager's office.

(g) Openings. In determining whether to open an area to public use or activity otherwise prohibited, the Refuge Manager will provide notice in the Federal Register and will, upon request, hold a public meeting in the affected vicinity and other location, as appropriate, prior to making a final determination.

(h) Except as otherwise specifically allowed under the provisions of this part, entry into closed areas or failure to abide by restrictions established under this section is prohibited.

Karen Hyun,
Deputy Assistant Secretary for Fish and Wildlife and Parks.

[FR Doc. 2016-00022 Filed 1-7-16; 8:45 am]

BILLING CODE 4333-15-P